ELECTION ASSISTANCE COMMISSION

Sunshine Act Notice

AGENCY: United States Election Assistance Commission (EAC).

* * * * *

ACTION: Notice of Virtual Public Forum for EAC Board of Advisors.

Date and Time: Thursday, September 11, 2008, 9 a.m. EDT through Monday, September 15, 2008, 5 p.m. EDT.

Place: EAC Board of Advisors Virtual Meeting Room at http://www.eac.gov. Once at the main page of EAC's Web site, viewers should click the link to the Board of Advisors Virtual Meeting Room. The virtual meeting room will open on Thursday, September 11, 2008 at 9 a.m. EDT and will close on Monday, September 15, 2008, at 5 p.m. EDT. The site will be available 24 hours per day during that 5-day period.

Purpose: The EAC Board of Advisors will review and provide comment on a draft of the independent evaluation plan. The draft contains a plan for evaluating the EAC's $10M Election Data Collection Grant Program.

The EAC Board of Advisors Virtual Meeting Room was established to enable the Board of Advisors to conduct business in an efficient manner in a public forum, including being able to review and discuss draft documents, when it is not feasible for an in-person board meeting. The Board of Advisors will not take any votes or propose any resolutions during the 5-day forum of September 11-September 15, 2008. Members will post comments about the draft evaluation plan.

This activity is open to the public. The public may view the Proceedings of this special forum by visiting the EAC Board of Advisors virtual meeting room at http://www.eac.gov. At any time between Thursday, September 11, 2008, 9 a.m. EDT and Monday, September 15, 2008, 5 p.m. EDT. The public may file written statements to the EAC Board of Advisors at boardofadvisors@eac.gov. Data on EAC's Web site is accessible to visitors with disabilities and meets the requirements of Section 508 of the Rehabilitation Act.

FOR FURTHER INFORMATION CONTACT: Bryan Whitener, Telephone: (202) 566-3100.

* * * * *

Alice Miller,
Chief Operating Officer, U.S. Election Assistance Commission.

[FR Doc. E8-19855 Filed 8-22-08; 4:15 pm]

BILLING CODE 6820-KF-P